DEPARTMENT OF HEALTH AND HUMAN SERVICES

Centers for Disease Control and Prevention

[30Day-04-0307]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Gonococcal Isolate Surveillance Project (GISP), OMB No. 0920-0307—Revision—National Center for HIV, STD, and TB Prevention (NCHSTP), Centers for Disease Control and Prevention (CDC).

CDC is requesting a 3-year approval/with change for this project. The objectives of GISP are to monitor trends in antimicrobial susceptibility of strains of Neisseria gonorrhoeae in the U.S. and characterize resistant isolates. GISP provides critical surveillance for antimicrobial resistance, allowing for informed treatment recommendations. This project began in 1986 as a voluntary surveillance project and has involved 5 regional laboratories and 30 publicly-funded, sexually transmitted disease (STD) clinics around the country. The STD clinics submit up to 25 gonococcal isolates per month to the regional laboratories, which measure susceptibility to a panel of antibiotics. Limited demographic and clinical information corresponding to the isolates are submitted directly by the STD clinics to CDC.

During 1986-2003, GISP demonstrated the ability to effectively achieve its objectives. The emergence, in the U.S., of resistance to fluoroquinolones, commonly used therapies for gonorrhea, was identified through GISP and makes ongoing surveillance critical. Emergence of decreased susceptibility to fluoroquinolones among the men having sex with men (MSM) population in the U.S. was also identified through GISP in 2003. Data gathered through GISP were used to change the treatment for gonorrhea for the MSM population in April 2004. There are no costs to respondents other than their time. The estimated annualized burden for this data collection is 8,142 hours.

Respondent | Number of respondents | Number of responses per respondent | Average burden per response (in hours)
Laboratory:
Form 2 | 5 | 1368 | 1
Form 3 | 5 | 48 | 12/60
Clinical personnel | 30 | 228 | 11/60

Dated: October 27, 2004.
B. Kathy Skipper,
Acting Director, Management Analysis and Services Office, Centers for Disease Control and Prevention.

[FR Doc. 04-24385 Filed 11-1-04; 8:45 am]

BILLING CODE 4163-18-P